DEPARTMENT OF ENERGY

Federal Energy Regulatory Commission

[Docket No. EL00-91-000; et al.]

Morgan Stanley Capital Group Inc. v. California Independent System Operator Corporation, et al.; Notice of Meeting

September 6, 2000.

Morgan Stanley Capital Group Inc. v. California Independent System Operator Corporation | Docket No. EL00-91-000
San Diego Gas & Electric Company v. Sellers of Energy and Ancillary Services Into Markets Operated by the California Independent System Operator and the California Power Exchange | Docket No. EL00-95-000
Investigation of Practices of the California Independent System Operator and the California Power Exchange | Docket No. EL00-98-000
Reliant Energy Power Generation, Inc., Dynegy Power Marketing, Inc., and Southern Energy California, L.L.C. v. California Independent System Operator Corporation | Docket No. EL00-97-000
California Electricity Oversight Board v. All Sellers of Energy and Ancillary Services Into the Energy and Ancillary Services Markets Operated by the California Independent System Operator Corporation and the California Power Exchange; All Scheduling Coordinators Acting On behalf of the Above Sellers; California Independent System Operator Corporation; and California Power Exchange Corporation | Docket No. EL00-104-000
California Independent System Operator Corporation | Docket No. ER00-2208-000
El Segundo Power, LLC | Docket No. ER00-1830-000
California Independent System Operator Corporation | Docket No. ER00-2383-000
Southern Energy Delta, L.L.C | Docket No. ER00-2726-000
Southern Energy Potrero, L.L.C | Docket No. ER00-2727-000
Sempra Energy Trading Corporation | Docket No. ER00-3473-000
California Independent System Operator Corporation | Docket No. ER00-1239-000
California Independent System Operator Corporation | Docket No. ER00-1365-000
Southern California Edison Company | Docket No. ER00-845-000
Pacific Gas and Electric Company | Docket No. ER00-851-000
San Diego Gas & Electric Company | Docket No. ER00-860-000
California Independent System Operator Corporation | Docket No. ER98-3594-000
California Independent System Operator Corporation | Docket No. ER99-4462-000
San Diego Gas & Electric Company | Docket No. ER99-3426-000
California Independent System Power Corporation | Docket Nos. ER98-3760-000; EC96-19-000; ER96-1663-000
California Independent System Operator Corporation | Docket No. ER00-997-000
California Independent System Operator Corporation | Docket No. ER00-703-000
El Segundo Power, LLC | Docket No. ER98-2971-000
Long Beach Generation, LLC | Docket No. ER98-2972-000
AES Redondo Beach, L.L.C. | Docket No. ER98-2843-000
AES Huntington Beach, L.L.C | Docket No. ER98-2844-000
AES Alamitos, L.L.C | Docket No. ER98-2883-000
Ocean Vista Power Generation, L.L.C.; Mountain Vista Power Generation, L.L.C.; Alta Power Generation, L.L.C.; Oeste Power Generation, L.L.C.; Ormond Beach Power Generation, L.L.C. | Docket No. ER98-2977-000
Williams Energy Services Company | Docket No. ER98-3106-000
Duke Energy Oakland, L.L.C. | Docket No. ER98-3416-000
Duke Energy Morro Bay, L.L.C. | Docket No. ER98-3417-000
Duke Energy Moss Landing, L.L.C. | Docket No. ER98-3418-000
Sempra Energy Trading Corporation | Docket No. ER98-4497-000
San Diego Gas & Electric Company | Docket No. ER98-4498-000
California Independent System Operator Corporation | Docket No. ER99-1971-000
Pacific Gas & Electric Company | Docket Nos. ER98-495-000; ER98-1614-000; ER98-2145-000; ER98-3603-000
San Diego Gas & Electric Company | Docket Nos. ER98-496-000, ER98-2160-000
California Independent System Operator Corporation | Docket No. ER99-1770-000
California Independent System Operator Corporation | Docket No. ER99-3301-000
California Independent System Operator Corporation | Docket No. ER99-896-000

The Commission will hold a public meeting on September 12, 2000 in San Diego, California, to discuss participants' views on recent events in California's wholesale electric power markets. During the course of this meeting, discussion of issues pending in the above-listed cases could arise. Any person having an interest in wholesale power prices in California, including any party in the above-listed cases, is invited to attend. There will be a Commission transcript of this discussion. Information discussed or disseminated in the meeting will not constitute part of the decisional record in the above-listed cases, unless formally filed in accordance with Commission regulations, except that the Commission may elect to place the transcript in the official record of Docket Nos. EL00-95-000 and EL00-98-000. Additional information about the meeting may be obtained from the Commission's web page at www.ferc.fed.us/public/Sandieg.htm.

David P. Boergers,
Secretary.

[FR Doc. 00-23475 Filed 9-11-00; 8:45 am]

BILLING CODE 6717-01-P